NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995. This is the second notice for public comment; the first was published in the Federal Register and no comments were received. NSF is forwarding the proposed renewal submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays). Comments regarding this information collection are best assured of having their full effect if received within 30 days of this notification. Copies of the submission(s) may be obtained by calling 703-292-7556.

NSF may not conduct or sponsor a collection of information unless the collection of information displays a currently valid OMB control number, and the agency informs potential persons who are to respond to the collection of information that such persons are not required to respond to the collection of information unless it displays a currently valid OMB control number.

SUPPLEMENTARY INFORMATION:

Title of Collection: Office of Small and Disadvantaged Business Utilization Vendor Outreach Form.

OMB Control No.: 3145-New.

Abstract: The purpose of the National Science Foundation's (NSF) Office of Small and Disadvantaged Business Utilization (OSDBU) Vendor Information form is to collect vendor contact information (company name, point of contact name, email address, phone number), along with identifiers such as NAICS codes, SAM ID, DUNS#, description of supplies/services, and Socio-economic indicator. This will assist the NSF OSDBU in maintaining a database of small businesses that can provide supplies and/or services for requirements listed on the NSF Acquisition Forecast. Collecting this information supports the mission of the OSDBU, as outlined in section 15k of the Small Business Act, and ensures that small businesses can participate in NSF acquisitions to the maximum extent practicable. In addition, the Biden Administration has made it a priority to ensure equity in federal contracting via Executive Order 13985, Advancing Racial Equity and Support for Underserved Communities through the Federal Government, and implemented in OMB M-22-03, Advancing Equity in Federal Procurement. The President directed federal agencies to make Federal contracting and procurement opportunities more readily available to all eligible vendors and charged every agency to assess available tools to increase opportunities for small businesses and underserved entrepreneurs to compete for Federal contracts. This form will allow us to reach vendors, to a greater extent, through our external website on NSF.gov and participation in various conferences and conventions, which ensures NSF complies with these mandates.

Respondents: Small and disadvantaged businesses.

Estimated Number of Annual Respondents: 275.

Burden on the Public: Estimated 15 minutes to fill out the form, including the collection of data to fill in the fields. This information should be readily available as most companies have capability statements that include this information. The estimated burden time is 69 hours.

Dated: June 2, 2022.
Suzanne H. Plimpton,
Reports Clearance Officer, National Science Foundation.

[FR Doc. 2022-12294 Filed 6-7-22; 8:45 am]

BILLING CODE 7555-01-P